DEPARTMENT OF JUSTICE

Notice of Proposed Consent Decree Under the Comprehensive Environmental Response, Compensation, and Liability Act

Notice is hereby given that on March 18, 2010, the United States lodged a proposed Consent Decree in United States v. All Metals Processing Company, et al., Case No. 09-06363 JFW (Sept. 1, 2009, C.D. Cal.). On September 1, 2009, the United States filed a complaint against All Metals Processing Company, the Estate of Helen L. Powers (“Estate”), and Barbara C. Harker, in her capacity as personal representative of the Estate, under CERCLA Section 107(a), 42 U.S.C. 9607(a), seeking recovery of past response costs and for future costs incurred by the United States Environmental Protection Agency (“EPA”) in connection with the release or threatened release of hazardous substances at 264 W. Spazier Avenue in Burbank, Los Angeles County, California (the “Property”).

The proposed Consent Decree resolves the claims in the Complaint against the Estate and Barbara C. Harker, in her capacity as personal representative of the Estate. Under the terms of the Consent Decree, the Estate has agreed to sell the Property. Proceeds of the sale of the Property, after costs, will be divided between the United States and the Estate, with the United States receiving 85% of the sale proceeds and the Estate receiving 15% of the sale proceeds. In addition, the Estate will transfer to the United States all proceeds recovered under the Estate's insurance policies covering the Property. In return, the Estate and Barbara C. Harker, in her representative capacity, will receive a covenant not to sue from the United States with respect to past and future response costs at the Property under Section 107(a) of CERCLA, 42 U.S.C. 9607(a).

The Department of Justice will receive for a period of thirty (30) days from the date of this publication comments relating to the Consent Decree. Comments should be addressed to Ignacia S. Moreno, Assistant Attorney General, Environment and Natural Resources Division, and either e-mailed to pubcomment-ees.enrd@usdoj.gov or mailed to P.O. Box 7611, U.S. Department of Justice, Washington, DC 20044-7611, and should refer to United States v. All Metals Processing Company, et al., Case No. 09-06363 JFW (Sept. 1, 2009, C.D. Cal.), D.J. Ref. 90-11-3-09578.

The Consent Decree may be examined at the U.S. Environmental Protection Agency, Region 9, Office of Regional Counsel, 75 Hawthorne Street, San Francisco, California 94105. During the public comment period, the Consent Decree may also be examined on the following Department of Justice Web site: http://www.usdoj.gov/enrd/Consent_Decrees.html. A copy of the Settlement Agreement may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $6.50 (25 cents per page reproduction cost) payable to the U.S. Treasury, or if by e-mail or fax, forward a check in that amount to the Consent Decree Library at the stated address.

Dated: March 19, 2010.
Maureen Katz,
Assistant Chief, Environmental Enforcement Section, Environment and Natural Resources Division.

[FR Doc. 2010-6497 Filed 3-23-10; 8:45 am]

BILLING CODE 4410-15-P